DEPARTMENT OF COMMERCE

International Trade Administration

[A-570-082]

Steel Wheels From the People's Republic of China: Postponement of Preliminary Determination in the Less-Than-Fair-Value Investigation

AGENCY: Enforcement and Compliance, International Trade Administration, Department of Commerce.

DATES: Applicable August 20, 2018.

FOR FURTHER INFORMATION CONTACT: Lingjun Wang, AD/CVD Operations, Office VII, Enforcement and Compliance, International Trade Administration, U.S. Department of Commerce, 1401 Constitution Avenue NW, Washington, DC 20230; telephone (202) 482-2316.

SUPPLEMENTARY INFORMATION:

Background

On April 16, 2018, the Department of Commerce (Commerce) initiated a less-than-fair-value (LTFV) investigation of imports of certain steel wheels from the People's Republic of China (China).¹ Currently, the preliminary determination is due no later than September 4, 2018.

¹ See Certain Steel Wheels from the People's Republic of China: Initiation of Less-Than-Fair-Value Investigation, 83 FR 17798 (April 24, 2018) (Initiation Notice).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request. See 19 CFR 351.205(e).

On August 8, 2018, the petitioners ² submitted a timely request that Commerce postpone the preliminary determination in this investigation. The petitioners stated that they request postponement because under the current deadline for the preliminary determinations, Commerce will not have received all questionnaire responses and obtained sufficient information for making a preliminary determination.³

² The petitioners are Accuride Corporation and Maxion Wheels Aleron LLC (collectively, the petitioners).

³ See the petitioners' August 8, 2018 Letter re: Petitioners' Request to Extend the Preliminary Determination.

For the reasons stated above and because there are no compelling reasons to deny the request, Commerce, in accordance with section 733(c)(1)(A) of the Act, is postponing the deadline for the preliminary determination by 50 days (i.e., 190 days after the date on which this investigation was initiated). As a result, Commerce will issue its preliminary determination no later than October 23, 2018. In accordance with section 735(a)(1) of the Act and 19 CFR 351.210(b)(1), the deadline for the final determination of this investigation will continue to be 75 days after the date of publication of the preliminary determination, unless postponed at a later date.

This notice is issued and published pursuant to section 733(c)(2) of the Act and 19 CFR 351.205(f)(1).

Dates: August 14, 2018.
Gary Taverman,
Deputy Assistant Secretary for Antidumping and Countervailing Duty Operations, performing the non-exclusive functions and duties of the Assistant Secretary for Enforcement and Compliance.

[FR Doc. 2018-17906 Filed 8-17-18; 8:45 am]

BILLING CODE 3510-DS-P